DEPARTMENT OF EDUCATION

Accrediting Agencies Currently Undergoing Review for the Purpose of Recognition by the U.S. Secretary of Education

AGENCY: Accreditation Group, Office of Postsecondary Education, U.S. Department of Education.

ACTION: Call for written third-party comments.

SUMMARY: This notice provides information to members of the public on submitting written comments for accrediting agencies currently undergoing review for the purpose of recognition by the U.S. Secretary of Education.

FOR FURTHER INFORMATION CONTACT: Herman Bounds, Director, Accreditation Group, Office of Postsecondary Education, U.S. Department of Education, 400 Maryland Avenue SW, fifth floor, Washington, DC 20202, telephone: (202) 453-7615, or email: herman.bounds@ed.gov.

SUPPLEMENTARY INFORMATION: This request for written third-party comments concerning the performance of accrediting agencies under review by the Secretary of Education is required by 496(n)(1)(A) of the Higher Education Act (HEA) of 1965, as amended, and pertains to the summer 2024 meeting of the National Advisory Committee on Institutional Quality and Integrity (NACIQI). The meeting date and location have not been determined but will be announced in a later Federal Register notice. In addition, a later Federal Register notice will describe how to register to provide oral comments at the meeting. Note: Written comments about the specific agencies identified below will not be accepted or provided to NACIQI members if those comments are submitted after the deadline provided in this Federal Register notice, which is June 5, 2023. Written comments must be submitted to the mailbox identified below. Do not submit written comments directly to Department officials or to NACIQI members.

Agencies Under Review and Evaluation: The Department requests written comments from the public on the following accrediting agencies, which are currently undergoing review and evaluation by the Accreditation Group, and which will be reviewed at the summer 2024 NACIQI meeting.

The agencies are listed by the type of application each agency has submitted. Please note, each agency's current scope of recognition is indicated below. If any agency requested to expand its scope of recognition, identified are both the current scope of recognition and the requested scope of recognition.

Applications for Renewal of Recognition

1. WASC Accrediting Commission for Community and Junior Colleges. Scope of Recognition: The accreditation and pre-accreditation (“Candidate for Accreditation”) of community and other colleges which have as a primary mission the granting of associate degrees, but which may also award certificates and other credentials, not to exceed the bachelor degree level, where the provision of such credentials is within the institution's mission and, if applicable, is authorized by their governmental authorities, and the accreditation of such programs offered via distance education and correspondence education at these colleges. This recognition also extends to the Committee on Substantive Change of the Commission, for decisions on substantive changes, and the Appeals Panel. Geographic Area of Accrediting Activities: Throughout the United States.

2. American Veterinary Medical Association, Council on Education. Scope of Recognition: The accreditation and preaccreditation (“Provisional Accreditation”) in the United States of programs leading to professional degrees (D.V.M. or V.M.D.) in veterinary medicine. Geographic Area of Accrediting Activities: Throughout the United States.

3. Accrediting Council for Continuing Education and Training. Scope of Recognition: The accreditation throughout the United States of institutions of higher education that offer continuing education and vocational programs that confer certificates or occupational associate degrees, including those programs offered via distance education. Geographic Area of Accrediting Activities: Throughout the United States.

4. Council on Education for Public Health. Scope of Recognition: The accreditation of schools of public health and public health programs outside schools of public health, at the baccalaureate and graduate degree levels, including those offered via distance education. Geographic Area of Accrediting Activities: Throughout the United States.

5. National Association of Schools of Dance, Commission on Accreditation. Scope of Recognition: The accreditation throughout the United States of freestanding institutions that offer dance and dance-related programs (both degree and non-degree-granting), including those offered via distance education. Geographic Area of Accrediting Activities: Throughout the United States.

6. National Association of Schools of Music, Commission on Accreditation. Scope of Recognition: The accreditation throughout the United States of freestanding institutions that offer music and music related programs (both degree and non-degree-granting) including those offered via distance. This recognition also extends to the Commission on Community College Accreditation. Geographic Area of Accrediting Activities: Throughout the United States.

7. National Association of Schools of Theatre, Commission on Accreditation. Scope of Recognition: The accreditation throughout the United States of freestanding institutions that offer theatre and theatre-related programs (both degree and non-degree-granting), including those offered via distance education. Geographic Area of Accrediting Activities: Throughout the United States.

8. Puerto Rico State Agency for the Approval of Public Postsecondary Vocational, Technical Institutions and Programs. Scope of Recognition: State agency for the approval of vocational education.

9. Maryland State Board of Nursing. Scope of Recognition: State agency for the approval of nursing education.

10.New York State Board of Regents (nursing education).

Scope of Recognition: State approval agency for nursing education.

Submission of Written Comments Regarding a Specific Accrediting Agency Under Review

Written comments about the recognition of any of the accrediting agencies listed above must be received by June 5, 2023, in the ThirdPartyComments@ed.gov mailbox. Please include in the subject line “Written Comments: (agency name).” The electronic mail (email) must include the name(s), title, organization/affiliation, mailing address, email address, and telephone number of the person(s) making the comment. Comments should be submitted as a PDF, Microsoft Word document or in a medium compatible with Microsoft Word that is attached to an email or provided in the body of an email message. Comments about an agency that has submitted a petition for initial recognition, renewal of recognition, or an expansion of scope must relate to the agency's compliance with the Criteria for the recognition of Accrediting Agencies or the Criteria for the recognition of state agencies, which are available at: https://www2.ed.gov/admins/finaid/accred/index.html.

Only written materials submitted by the deadline to the email address listed in this notice, and in accordance with these instructions, become part of the official record concerning agencies scheduled for review and are considered by the Department and NACIQI in their deliberations. Written comments about the specific agencies identified in this Federal Register notice that are submitted after the deadline will not be considered by the Department or provided to NACIQI for purposes of the current cycle review. However, comments may be provided orally at the summer 2024 NACIQI meeting, which has not yet been scheduled, but which will be announced in a future Federal Register notice.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c; 20 U.S.C. 1099b.

Annmarie Weisman,
Deputy Assistant Secretary for Policy, Planning and Innovation, Office of Postsecondary Education.

[FR Doc. 2023-09362 Filed 5-2-23; 8:45 am]

BILLING CODE 4000-01-P